DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Regulations To Implement SAMHSA's Charitable Choice Statutory Provisions—42 CFR Parts 54 and 54a (OMB No. 0930-0242)—Extension

Section 1955 of the Public Health Service Act (42 U.S.C. 300x-65), as amended by the Children's Health Act of 2000 (Pub. L. 106-310) and Sections 581-584 of the Public Health Service Act (42 U.S.C. 290kk et seq., as added by the Consolidated Appropriations Act (Pub. L. 106-554)), set forth various provisions which aim to ensure that religious organizations are able to compete on an equal footing for federal funds to provide substance use services. These provisions allow religious organizations to offer substance use services to individuals without impairing the religious character of the organizations or the religious freedom of the individuals who receive the services. The provisions apply to the Substance Abuse Prevention and Treatment Block Grant (SABG), to the Projects for Assistance in Transition from Homelessness (PATH) formula grant program, and to certain Substance Abuse and Mental Health Services Administration (SAMHSA) discretionary grant programs (programs that pay for substance use treatment and prevention services, not for certain infrastructure and technical assistance activities). Every effort has been made to assure that the reporting, recordkeeping and disclosure requirements of the proposed regulations allow maximum flexibility in implementation and impose minimum burden.

No changes are being made to the regulations or the burden hours. This information collection has been approved without changes since 2010.

Information on how states comply with the requirements of 42 CFR part 54 was approved by the Office of Management and Budget (OMB) as part of the Substance Abuse Prevention and Treatment Block Grant FY 2019-2021 annual application and reporting requirements approved under OMB control number 0930-0168.

42 CFR Citation and purpose | Number of respondents | Responses per respondent | Total responses | Hours per response | Total hours
Part 54—States Receiving SA Block Grants and/or Projects for Assistance in Transition from Homelessness (PATH)
Reporting:
96.122(f)(5) Annual report of activities the state undertook to comply 42 CFR part 54 (SABG) | 60 | 1 | 60 | 1 | 60
54.8(c)(4) Total number of referrals to alternative service providers reported by program participants to States (respondents).
SABG | 6 | (avg.) 23 | 135 | 1 | 135
PATH | 10 | 5 | 50 | 1 | 50
54.8 (e) Annual report by PATH grantees on activities undertaken to comply with 42 CFR part 54 | 56 | 1 | 56 | 1 | 56
Disclosure:
54.8(b) State requires program participants to provide notice to program beneficiaries of their right to referral to an alternative service provider.
SABG | 60 | 1 | 60 | .05 | 3
PATH | 56 | 1 | 56 | .05 | 3
Recordkeeping:
54.6(b) Documentation must be maintained to demonstrate significant burden for program participants under 42 U.S.C. 300x-57 or 42 U.S.C. 290cc-33(a)(2) and under 42 U.S.C. 290cc-21 to 290cc-35 | 60 | 1 | 60 | 1 | 60
Part 54—Subtotal | 115 |  | 477 |  | 367
Part 54a—States, local governments and religious organizations receiving funding under Title V of the PHS Act for substance abuse prevention and treatment services
Reporting:
54a.8(c)(1)(iv) Total number of referrals to alternative service providers reported by program participants to states when they are the responsible unit of government | 25 | 4 | 100 | .083 | 8
54a(8)(d) Total number of referrals reported to SAMHSA when it is the responsible unit of government. (Note: This notification will occur during the course of the regular reports that may be required under the terms of the funding award.) | 20 | 2 | 40 | .25 | 10
Disclosure:
54a.8(b) Program participant notice to program beneficiaries of rights to referral to an alternative service provider | 1,460 | 1 | 1,460 | 1 | 1,460
Part 54a—Subtotal | 1,505 |  | 1,600 |  | 1,478
Total | 1,620 |  | 2,077 |  | 1,845

Send comments to Carlos Graham, SAMHSA Reports Clearance Officer, 5600 Fishers Lane, Room 15E57-A, Rockville, Maryland 20857, or email a copy to Carlos.Graham@samhsa.hhs.gov. Written comments should be received by March 21, 2022.

Carlos Graham,
Reports Clearance Officer.

[FR Doc. 2022-00859 Filed 1-14-22; 8:45 am]

BILLING CODE 4162-20-P